ENVIRONMENTAL PROTECTION AGENCY

[FRL-11367-02-R6]

Public Water System Supervision Program Revision for the State of Texas

AGENCY: Environmental Protection Agency (EPA).

ACTION: Notice of final approval.

SUMMARY: Notice is hereby given that the State of Texas is revising its approved Public Water System Supervision (PWSS) program. Texas has adopted the Environmental Protection Agency (EPA) drinking water rules for the Revised Total Coliform Rule (RTCR) and Ground Water Rule (GWR). Therefore, EPA has approved these PWSS program revision packages following a public hearing period.

DATES: Decision for approval of Texas PWSS program revision is final on December 12, 2023.

FOR FURTHER INFORMATION CONTACT: José G. Rodriguez, EPA Region 6, Drinking Water Section (6WD-DD) at 1201 Elm St, Dallas, TX 75270, or by telephone at (214) 665-8087, or by email at Rodriguez.Jose@epa.gov.

SUPPLEMENTARY INFORMATION: On October 5, 2023, EPA published notice of tentative approval and solicitation of requests for public hearing (88 FR 69178). No timely or appropriate requests for public hearing were received within the 30-day period. Therefore, EPA issues final approval of the Texas PWSS program revisions effective on December 12, 2023.

Authority: Section 1413 of the Safe Drinking Water Act, as amended (1996), and 40 CFR part 142 of the National Primary Drinking Water Regulations.

Dated: December 6, 2023.
Earthea Nance,
Regional Administrator, Region 6.

[FR Doc. 2023-27154 Filed 12-11-23; 8:45 am]

BILLING CODE 6560-50-P